DEPARTMENT OF TRANSPORTATION

Federal Aviation Administration

14 CFR Part 39

[Docket No. 99-NE-43-AD; Amendment 39-12143; AD 99-18-18 R1]

RIN 2120-AA64

Airworthiness Directives: Dowty Aerospace Propellers Model R381/6-123-F/5 Propellers, Correction

AGENCY: Federal Aviation Administration, DOT.

ACTION: Final rule; correction.

SUMMARY: This document makes a correction to Airworthiness Directive (AD) 99-18-18 R1 applicable to Dowty Aerospace Propellers model R381/6-123-F/5 propellers that was published in the Federal Register on March 15, 2001 (66 FR 15022). Under PART 39—AIRWORTHINESS DIRECTIVES, in paragraph 2, a part of that sentence was inadvertently repeated. Also, the amendment number was inadvertently omitted from one of the two locations where it appears in the regulatory section. This document corrects these typographical errors. In all other respects, the original document remains the same.

EFFECTIVE DATE: April 19, 2001.

FOR FURTHER INFORMATION CONTACT: Kirk Gustafson, Aerospace Engineer, Boston Aircraft Certification Office, FAA, Engine and Propeller Directorate, 12 New England Executive Park, Burlington, MA 01803; telephone (781) 238-7190, fax (781) 238-7199.

SUPPLEMENTARY INFORMATION: A final rule airworthiness directive (FR Doc. 01-5735) applicable to Dowty Aerospace Propellers model R381/6-123-F/5 propellers was published in the Federal Register on March 15, 2001 (66 FR 15022). The following correction is needed:

§ 39.13 [Corrected]

On page 15023, in the third column, under PART 39—AIRWORTHINESS DIRECTIVES, amendatory instruction 2 and the heading of AD 99-18-18 R1 are corrected to read as follows:

2. Section 39.13 is amended by removing Amendment 39-11284 (64 FR 47661, September 1, 1999), and by adding a new airworthiness directive (AD), Amendment 39-12143 to read as follows:

99-18-18 R1, Dowty Aerospace Propellers: Amendment 39-12143. Docket 99-NE-43-AD. Revises AD 99-18-18, Amendment 39-11284.

* * * * *

Issued in Burlington, MA, on March 23, 2001.
David A. Downey,
Acting Manager, Engine and Propeller Directorate, Aircraft Certification Service.

[FR Doc. 01-7962 Filed 3-30-01; 8:45 am]

BILLING CODE 4910-13-P